DEPARTMENT OF TRANSPORTATION

Federal Motor Carrier Safety Administration

[Docket No. FMCSA-2009-0170]

Agency Information Collection Activities; Revision of a Currently Approved Information Collection Request: Annual and Quarterly Report of Class I Motor Carriers of Passengers (OMB 2139-0003)

AGENCY: Federal Motor Carrier Safety Administration (FMCSA), DOT.

ACTION: Notice and request for comments.

SUMMARY: In accordance with the Paperwork Reduction Act of 1995, FMCSA announces its plan to submit to the Office of Management and Budget (OMB) for approval its request to revise a currently approved information collection request (ICR) entitled, “Annual and Quarterly Report of Class I Motor Carriers of Passengers.” This information collection is necessary to ensure that motor carriers comply with financial and operating statistics requirements at chapter III of title 49 CFR part 369 entitled, “Reports of Motor Carriers.” On March 24, 2009, FMCSA published a Federal Register notice (at 74 FR 12436) allowing for a 60-day comment period on the revision of this ICR. The comment received in response to the notice expressed support for this ICR.

DATES: Please send your comments by August 27, 2009. OMB must receive your comments by this date in order to act quickly on the ICR.

ADDRESSES: All comments should reference Federal Docket Management System (FDMS) Docket Number FMCSA-2009-0170. Interested persons are invited to submit written comments on the proposed information collection to the Office of Information and Regulatory Affairs, Office of Management and Budget. Comments should be addressed to the attention of the Desk Officer, Department of Transportation/Office of the Secretary, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Ms. Vivian Oliver, Office of Research and Information Technology, Department of Transportation, Federal Motor Carrier Safety Administration, West Building 6th Floor, 1200 New Jersey Avenue, SE., Washington, DC 20590. Telephone: 202-366-2974; e-mail Vivian.Oliver@dot.gov.

SUPPLEMENTARY INFORMATION: Title: Annual and Quarterly Report of Class I Motor Carriers of Passengers (formerly OMB Control Number 2139-0003).

OMB Control Number: 2126-0031.

Type of Request: Revision of a currently-approved information collection request.

Respondents: Class I Motor Carriers of Passengers.

Estimated Number of Respondents: 6.

Estimated Time per Response: 18 minutes per response.

Expiration Date: 09/30/2009.

Frequency of Response: Quarterly and annually.

Estimated Total Annual Burden: 9 hours [30 responses × 18 minutes per response/60 minutes = 9].

Background: For-hire Class I motor carriers of passengers (including interstate and intrastate) ¹ are required to file Motor Carrier Annual and Quarterly Reports (Form MP-1) that provide financial and operating data (see 49 U.S.C. 14123; and implementing FMCSA regulations at 49 CFR part 369). The agency uses this information to assess the health of the industry and identify industry changes that may affect national transportation policy. The data also show company financial stability and traffic patterns. Motor carriers of passengers required to comply with the regulations are classified on the basis of their annual gross carrier operating revenues. Under the Financial & Operating Statistics (F&OS) program, the FMCSA collects balance sheet and income statement data along with information on tonnage, mileage, employees, transportation equipment, and other related data.

¹ For purposes of the Financial & Operating Statistics (F&OS) program, passenger carriers are classified into the following two groups; (1) Class I carriers are those having average annual gross transportation operating revenues (including interstate and intrastate) of $5 million or more from passenger motor carrier operations after applying the revenue deflator formula as shown in the Note at 49 CFR 369.3; and (2) Class II passenger carriers are those having average annual gross transportation operating revenues (including interstate and intrastate) of less than $5 million from passenger motor carrier operations after applying the revenue deflator formula as shown in the Note at 49 CFR 369.3. Only Class I carriers of passengers are required to file the Annual and Quarterly Report Form MP-1. Class II passenger carriers, however, must notify the agency when there is a change in their classification or their revenues exceed the Class II limit.

The data and information collected is made publicly available as prescribed in 49 CFR part 369. Class I motor carriers are required by 49 U.S.C. 14123 to file annual financial reports with the Secretary. The Secretary has exercised his discretion under section 14123 to also require Class I property carriers (including dual-property carriers), Class I household goods carriers and Class I passengers carriers to file quarterly reports.

Over the years, the regulations were formerly administered by the Interstate Commerce Commission (ICC), but the ICC Termination Act of 1995 (ICCTA) (Pub. L. 104-88, 109 Stat. 803 (Dec. 29, 1995); now codified at 49 U.S.C. 14123) abolished the ICC and transferred the responsibility for collecting and disseminating motor carrier financial information to the Secretary of Transportation (Secretary). On September 30, 1998, the Secretary delegated and transferred the authority to administer the F&OS program to the former Bureau of Transportation Statistics (BTS), now a part of the Research and Innovative Technology Administration (RITA), to former Chapter XI, subchapter 13 of 49 CFR part 1420 (63 FR 52192).

On September 29, 2004, the Secretary transferred the responsibility for the F&OS program from BTS to FMCSA in the belief that the program was more aligned with FMCSA's safety mission and its other motor carrier responsibilities (69 FR 51009). On August 10, 2006 (71 FR 45740), the Secretary published a final rule that transferred and redesignated the motor carrier financial and statistical reporting regulations of BTS that were formerly located at chapter XI of title 49 CFR to FMCSA in 49 chapter III of title 49 CFR part 369.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information. The Agency will summarize and/or include your comments in the request for OMB's clearance of this information collection request.

Issued on July 16, 2009.
David Anewalt,
Acting Associate Administrator, Research and Information Technology.

[FR Doc. E9-17956 Filed 7-27-09; 8:45 am]

BILLING CODE 4910-EX-P